DEPARTMENT OF COMMERCE

International Trade Administation

[A-570-073]

Common Alloy Aluminum Sheet From the People's Republic of China: Final Results of Antidumping Duty Administrative Review, Final Successor-In-Interest Determination, and Final Determination of No Shipments; 2018-2020

AGENCY: Enforcement and Compliance, International Trade Administration, Department of Commerce.

SUMMARY: The Department of Commerce (Commerce) determines that certain companies under review sold common alloy aluminum sheet (aluminum sheet) from the People's Republic of China (China) at less than normal value during the period of review (POR) June 22, 2018, through January 31, 2020, and that certain other companies had no shipments of subject merchandise to the United States during the POR. Commerce also continues to make a successor-in-interest determination with respect to one company.

DATES: Applicable December 29, 2021.

FOR FURTHER INFORMATION CONTACT: Frank Schmitt or Fred Baker, AD/CVD Operations, Office VI, Enforcement and Compliance, International Trade Administration, U.S. Department of Commerce, 1401 Constitution Avenue, NW, Washington, DC 20230; telephone: (202) 482-4880 or (202) 482-2924, respectively.

SUPPLEMENTARY INFORMATION:

Background

Commerce published the Preliminary Results of this administrative review on June 25, 2021.¹ We invited interested parties to comment on the Preliminary Results, and we received case briefs and rebuttal briefs from interested parties.² On October 14, 2021, we extended the deadline for these final results until December 22, 2021.³ For a full summary of the events that occurred since Commerce published the Preliminary Results, see the Issues and Decision Memorandum.⁴ Commerce conducted this review in accordance with section 751(a) of the Tariff Act of 1930, as amended (the Act).

¹ See Common Alloy Aluminum Sheet from the People's Republic of China: Preliminary Results of Antidumping Duty Administrative Review, Partial Recission of Antidumping Administrative Review, Preliminary Determination of No Shipments, and Preliminary Successor-In-Interest Determination; 2018-2020, 86 FR 33640 (June 25, 2021) (Preliminary Results), and accompanying Preliminary Decision Memorandum (PDM).

² See Preliminary Results, 86 FR at 33642; see also Alcha's Letter, “Common Alloy Aluminum Sheet from the People's Republic of China: Case Brief,” dated August 12, 2021; Domestic Industry's Letter, “Domestic Industry's Case Brief,” dated August 12, 2021; Alcha's Letter, “Common Alloy Aluminum Sheet from the People's Republic of China: Rebuttal Brief,” dated August 19, 2021; and Domestic Industry's Letter, “Domestic Industry's Rebuttal Brief,” dated August 19, 2021.

³ See Memorandum, “2018-2020 Administrative Review of the Antidumping Duty Order on Common Alloy Aluminum Sheet from the People's Republic of China: Extension of Deadline for Final Results,” dated October 14, 2021.

⁴ See Memorandum, “Issues and Decision Memorandum for the Final Results of the Administrative Review of the Antidumping Duty Order on Common Alloy Aluminum Sheet from the People's Republic of China; 2018-2020,” dated concurrently with, and hereby adopted by, this notice (Issues and Decision Memorandum).

Scope of the Order ⁵

⁵ See Common Alloy Aluminum Sheet from the People's Republic of China: Antidumping Duty Order, 84 FR 2813 (February 8, 2019) (Order).

The merchandise covered by the Order is common alloy aluminum sheet from China. For a complete description of the scope of the Order, see the Issues and Decision Memorandum.

Analysis of Comments Received

All issues raised in the case and rebuttal briefs filed by interested parties are addressed in the Issues and Decision Memorandum. A list of these issues is attached to this notice.⁶ The Issues and Decision Memorandum is a public document and is on file electronically via Enforcement and Compliance's Antidumping and Countervailing Duty Centralized Electronic Service System (ACCESS). ACCESS is available to registered users at https://access.trade.gov. In addition, a complete version of the Issues and Decision Memorandum can be found at https://access.trade.gov/public/FRNoticesListLayout.aspx.

⁶ See Appendix.

Changes From the Preliminary Results

Based on our analysis of the record and the comments received from interested parties, we made certain changes to the margin calculation. For a discussion of these changes, see the Issues and Decision Memorandum.

Final Results of Successor-In-Interest Analysis

In the Preliminary Results, Commerce determined that Jiangsu Alcha Aluminum Group Co., Ltd., is the successor-in-interest to Jiangsu Alcha Aluminum Co., Ltd. (Jiangsu Alcha).⁷ No party commented on this issue and we have not received any information to contradict our preliminary finding. Therefore, we continue to find that Jiangsu Alcha Aluminum Group Co., Ltd. is the successor-in-interest to Jiangsu Alcha. Moreover, because we find Jiangsu Alcha Aluminum Group Co., Ltd. to be the successor-in-interest to Jiangsu Alcha, we intend to assign to Jiangsu Alcha Aluminum Group Co., Ltd., the same antidumping cash deposit rate assigned to Jiangsu Alcha, for purposes of determining antidumping liability in this proceeding.

⁷ See Preliminary Results PDM at 7-8.

Final Determination of No Shipments

In the Preliminary Results, Commerce determined that Teknik Aluminyum Sanayi A.S. and Companhia Brasileira de Aluminio did not have shipments of subject merchandise to the United States during the POR.⁸ As we received no information to contradict our preliminary determination of no shipments with respect to those companies, we continue to find that they made no shipments of subject merchandise to the United States during the POR. Accordingly, we will issue appropriate instructions for these two companies that are consistent with our “automatic assessment” clarification.⁹

⁸ See Preliminary Results, 86 FR at 33641.

⁹ See Non-Market Economy Antidumping Proceedings: Assessment of Antidumping Duties, 76 FR 65694 (October 24, 2011) (Assessment Notice); see also “Assessment Rates” section, below.

Final Affiliation and Single Entity Determination

In the Preliminary Results, Commerce determined that Jiangsu Alcha, Alcha International Holdings Limited (Alcha International), and Baotou Alcha Aluminum Co., Ltd. (Baotou Alcha) are affiliated entities, pursuant to sections 771(33)(E), (F), and (G) of the Act,¹⁰ and that Jiangsu Alcha and Baotou Alcha should be treated as a single entity, pursuant to 19 CFR 351.401(f)(1)-(2).¹¹ For these final results, we continue to find that Jiangsu Alcha, Alcha International, and Baotou Alcha are affiliated entities pursuant to section 771(33)(E), (F), and (G) of the Act, and we have revised our analysis to determine that all three companies should be treated as a single entity pursuant to 19 CFR 351.401(f)(1)-(2).¹²

¹⁰ See Preliminary Results, 86 FR at 33642; see also Preliminary Results PDM at 8; and Memorandum, “Preliminary Affiliation and Collapsing Memorandum: Common Alloy Aluminum Sheet from China,” dated June 21, 2021 (Preliminary Affiliation Memorandum). In the Preliminary Results, we inadvertently referred only to section 771(33)(F) of the Act; however, we find affiliation among these companies under sections 771(33)(E), (F), and (G) of the Act.

¹¹ See Preliminary Results, 86 FR at 33642; see also Preliminary Results PDM at 8. In the Preliminary Results, we inadvertently omitted Baotou Alcha from the rate chart with respect to the exporter listed as “Jiangsu Alcha Aluminum Co., Ltd./Alcha International Holdings Limited,” published in the Federal Register. See Preliminary Results, 86 FR at 33642. Based on our preliminary determination, Baotou Alcha should have been included in the rate chart with the aforementioned exporter and thus, we have corrected that omission in this notice.

¹² See Memorandum, “Administrative Review of the Antidumping Duty Order on Common Alloy Aluminum Sheet from the People's Republic of China: Final Affiliation and Collapsing Memorandum,” dated concurrently with this notice.

Separate Rates

In the Preliminary Results, Commerce determined that Jiangsu Alcha, Alcha International, and Yinbang Clad Material Co., Ltd. (Yinbang Clad) are eligible for separate rates.¹³ Commerce also preliminarily determined that Choil Aluminum Co., Ltd.; Jiangyin New Alumax Composite Material Co., Ltd. (Jiangyin New Alumax); Henan Mingtai Al Industrial Co., Ltd./Zhengzhou Mingtai Industry Co., Ltd. (collectively, Mingtai); PMS Metal Profil Aluminyum San. Ve Tic. A.S. Demirtas Organize Sanayi Bolgesi; and United Metal Coating LLC are not eligible for separate rates.¹⁴ No party commented on this issue and we have not received any information to contradict our preliminary findings.

¹³ See Preliminary Results, 86 FR at 33642; see also Preliminary Results PDM at 17.

¹⁴ See Preliminary Results PDM at 17-18.

For these final results, taking into account the final single entity determination, we determine that the single entity of Jiangsu Alcha, Baotou Alcha, and Alcha International (collectively, Alcha) ¹⁵ is eligible for a separate rate, as is Yinbang Clad. Commerce continues to find that Choil Aluminum Co., Ltd.; Jiangyin New Alumax; Mingtai; PMS Metal Profil Aluminyum San. Ve Tic. A.S. Demirtas Organize Sanayi Bolgesi; and United Metal Coating LLC are not eligible for a separate rate.

¹⁵ In the Preliminary Results, we referred to Jiangsu Alcha and Alcha International, collectively, as Alcha Group. See Preliminary Results, 86 FR at 33642.

Rate for Non-Examined Separate Rate Respondents

The statute and our regulations do not address the establishment of a rate to be assigned to respondents not selected for individual examination when we limit our examination of companies subject to the administrative review pursuant to section 777A(c)(2)(B) of the Act. Generally, we look to section 735(c)(5) of the Act, which provides instructions for calculating the all-others rate in an investigation, for guidance when calculating the rate for respondents not individually examined in an administrative review. Under section 735(c)(5)(A) of the Act, the all-others rate is normally “an amount equal to the weighted average of the estimated weighted average dumping margins established for exporters and producers individually investigated, excluding any zero and de minimis margins, and any margins determined entirely {on the basis of facts available}.”

For these final results, we calculated a weighted-average dumping margin that is not zero, de minimis, or determined entirely on the basis of facts available for Alcha. Accordingly, consistent with our Preliminary Results, Commerce has assigned Yinbang Clad, a separate rate respondent that was not selected for individual examination, a margin of 56.93 percent, Alcha's calculated weighted-average dumping margin, for these final results.

The China-Wide Entity

Because no party requested a review of the China-wide entity in this segment of the proceeding, the entity is not under review, and the entity's rate (i.e., 59.72 percent) is not subject to change.¹⁶ Other than the companies for which we made a final no-shipment determination, and the companies for which Commerce rescinded the administrative review in the Preliminary Results, Commerce considers all other companies for which a review was requested and did not demonstrate separate rate eligibility, to be part of the China entity.¹⁷

¹⁶ See Order, 84 FR at 2814.

¹⁷ In this review, we have determined that the following companies subject to the review are now part of the China-wide entity: (1) Choil Aluminum Co., Ltd.; (2) Mingtai; (3) Jiangyin New Alumax; (4) PMS Metal Profil Aluminyum San. Ve Tic. A.S. Demirtas Organize Sanayi Bolgesi; and (5) United Metal Coating LLC.

Final Results of Administrative Review

For the companies subject to this administrative review which established their eligibility for a separate rate, Commerce determines that the following weighted-average dumping margins exist for the period June 22, 2018, through January 31, 2020:

Exporter | Weighted- average dumping margin (percent)
Jiangsu Alcha Aluminum Co., Ltd.18/Baotou Alcha Aluminum Co., Ltd./Alcha International Holdings Limited | 56.93
Yinbang Clad Material Co., Ltd. | 56.93

Disclosure

Commerce intends to disclose the calculations performed for these final results of review of the aluminum sheet from China antidumping duty order to interested parties within five days of the date of publication of this notice in the Federal Register , in accordance with 19 CFR 351.224(b).

¹⁸ For the purposes of this review, we have considered the names Jiangsu Alcha Aluminum Co., Ltd. and Jiangsu Alcha Aluminium Co., Ltd., as equivalent.

Assessment Rates

Pursuant to section 751(a)(2)(C) of the Act and 19 CFR 351.212(b), Commerce has determined, and U.S. Customs and Border Protection (CBP) shall assess, antidumping duties on all appropriate entries of subject merchandise in accordance with these final results of review. We intend to issue assessment instructions to CBP no earlier than 35 days after the date of publication of these final results. If a timely summons is filed at the U.S. Court of International Trade, the assessment instructions will direct CBP not to liquidate relevant entries until the time for parties to file a request for a statutory injunction has expired (i.e., within 90 days of publication).

Where Alcha reported reliable entered values, we calculated importer-(or customer-) specific ad valorem rates by aggregating the dumping margins calculated for all U.S. sales to each importer (or customer) and dividing this amount by the total entered value of the sales to each importer (or customer).¹⁹ Where Commerce calculated a weighted-average dumping margin by dividing the total amount of dumping for reviewed sales to that party by the total sales quantity associated with those transactions, Commerce will direct CBP to assess importer-(or customer-) specific assessment rates based on the resulting per-unit rates.²⁰ Where an importer-(or customer-) specific ad valorem or per-unit rate is greater than de minimis (i.e., 0.50 percent), Commerce will instruct CBP to collect the appropriate duties at the time of liquidation.²¹ Where an importer-(or customer-) specific ad valorem or per-unit rate is zero or de minimis, Commerce will instruct CBP to liquidate appropriate entries without regard to antidumping duties.²²

¹⁹ See 19 CFR 351.212(b)(1).

²⁰ Id.

²¹ Id.

²² See 19 CFR 351.106(c)(2).

For the non-selected respondent that received a separate rate, Yinbang Clad, we will instruct CBP to apply an antidumping duty assessment rate of 56.93 percent to all entries of subject merchandise that entered the United States during the POR. For the companies that we determined had no reviewable entries of the subject merchandise in this review period, any suspended entries that entered under those exporters” case numbers (i.e., at the exporters” rates) will be liquidated at the China-wide rate, i.e., 59.72 percent.²³ For all other companies, we will instruct CBP to apply the antidumping duty assessment rate of the China-wide entity to all entries of subject merchandise exported by these companies.²⁴

²³ For a full discussion of this practice, see Assessment Notice.

²⁴ See Initiation of Antidumping and Countervailing Duty Administrative Reviews, 85 FR 19730, 19731 (April 8, 2020) (“All firms listed below that wish to qualify for separate rate status in the administrative reviews involving NME countries must complete, as appropriate, either a separate rate application or certification, as described below.”).

Cash Deposit Requirements

The following cash deposit requirements will be effective upon publication of the final results of this review for shipments of the subject merchandise from China entered, or withdrawn from warehouse, for consumption on or after the publication date, as provided by section 751(a)(2)(C) of the Act: (1) For subject merchandise exported by the companies listed above that have separate rates, the cash deposit rate will be the rate established in these final results of review for each exporter as listed above; (2) for previously investigated or reviewed Chinese and non-Chinese exporters not listed above that received a separate rate in a prior segment of this proceeding, except for the companies which lost their separate rate eligibility in this review, the cash deposit rate will continue to be the existing exporter-specific rate; (3) for all Chinese exporters of subject merchandise that have not been found to be entitled to a separate rate, or lost their separate rate eligibility in this review, the cash deposit rate will be that for the China-wide entity; and (4) for all non-Chinese exporters of subject merchandise which have not received their own rate, the cash deposit rate will be the rate applicable to the Chinese exporter that supplied that non-Chinese exporter. These deposit requirements, when imposed, shall remain in effect until further notice.

Reimbursement of Duties

This notice also serves as the final reminder to importers of their responsibility under 19 CFR 351.402(f)(2) to file a certificate regarding the reimbursement of antidumping duties prior to liquidation of the relevant entries during the POR. Failure to comply with this requirement could result in Commerce's presumption that reimbursement of antidumping duties occurred and the subsequent assessment of double antidumping duties.

Notification Regarding Administrative Protection Order

This notice also serves as the final reminder to parties subject to administrative protective order (APO) of their responsibility concerning the return or destruction of proprietary information disclosed under APO in accordance with 19 CFR 351.305, which continues to govern business proprietary information in this segment of the proceeding. Timely written notification of the return or destruction of APO materials, or conversion to judicial protective order, is hereby requested. Failure to comply with the regulation and terms of an APO is a sanctionable violation.

Notification to Interested Parties

These final results of review are issued and published in accordance with sections 751(a) and 777(i)(1) of the Act, and 19 CFR 351.221(b)(5).

Dated: December 22, 2021.
Ryan Majerus,
Deputy Assistant Secretary for Policy and Negotiations, Performing the Non-Exclusive Functions and Duties of the Assistant Secretary for Enforcement and Compliance.

Appendix—List of Topics Discussed in the Issues and Decision Memorandum

I. Summary

II. Background

III. Scope of the Order

IV. Changes to the Preliminary Results

V. Discussion of the Issues

Comment 1: Selection of Surrogate Country

Comment 2: HTS Classification for Certain Material Inputs and By-Products

Comment 3: Surrogate Value Data Availability

Comment 4: Double Remedies Adjustment

Comment 5: Export Subsidies Adjustment

Comment 6: Double Counting Consumption of Aluminum Inputs

Comment 7: Sigma-Capped Distance

VI. Recommendation

[FR Doc. 2021-28316 Filed 12-28-21; 8:45 am]

BILLING CODE 3510-DS-P